DEPARTMENT OF LABOR

Employment and Training Administration

[TA-W-82,492]

Creation Technologies Kentucky, Inc. Including On-Site Leased Workers From Manpower, Kelly Services, and Nesco Lexington, Kentucky; Amended Certification Regarding Eligibility To Apply for Worker Adjustment Assistance

In accordance with Section 223 of the Trade Act of 1974, as amended (“Act”), 19 U.S.C. 2273, the Department of Labor issued a Certification of Eligibility To Apply for Worker Adjustment Assistance on April 3, 2013, applicable to workers of Creation Technologies Kentucky, Inc., including on-site leased workers from Manpower and Kelly Services, Lexington, Kentucky. The Department's notice of determination was published in the Federal Register on April 30, 2013 (78 FR 25306).

At the request of the State Workforce Office, the Department reviewed the certification for workers of the subject firm. The workers were engaged in production of electronic products.

The company reports that workers leased from NESCO were employed on-site at Creation Technologies Kentucky, Inc., Lexington, Kentucky. The Department has determined that these workers were sufficiently under the control of the subject firm to be considered leased workers.

Based on these findings, the Department is amending this certification to include workers leased from NESCO working on-site at the Lexington, Kentucky location of Creation Technologies Kentucky, Inc.

The amended notice applicable to TA-W-82,492 is hereby issued as follows:

All workers of NESCO, reporting to Creation Technologies Kentucky, Inc., Lexington, Kentucky, who became totally or partially separated from employment on or after February 21, 2012 through April 3, 2015, and all workers in the group threatened with total or partial separation from employment on the date of certification through April 3, 2015, are eligible to apply for adjustment assistance under Chapter 2 of Title II of the Trade Act of 1974, as amended.

Signed in Washington, DC, this 16th day of December 2014.
Michael W. Jaffe,
Certifying Officer, Office of Trade Adjustment Assistance.

[FR Doc. 2014-30506 Filed 12-29-14; 8:45 am]

BILLING CODE 4510-FN-P